FEDERAL COMMUNICATIONS COMMISSION

47 CFR Part 73

[DA 06-845; MB Docket No. 04-377; RM-11077]

Radio Broadcasting Services; Dover and North Canton, OH

AGENCY: Federal Communications Commission.

ACTION: Final rule.

SUMMARY: The Audio Division, at the request of Clear Channel Broadcasting Licenses, Inc., reallots Channel 269A from Dover, Ohio to North Canton, Ohio, and modifies the license of Station WJER-FM, accordingly. The coordinates for Channel 269A at North Canton are 40-48-30 North Latitude and 81-23-31 West Longitude, with a site restriction of 7.5 kilometers (4.7 miles) south of the community.

DATES: Effective May 30, 2006.

FOR FURTHER INFORMATION CONTACT: Helen McLean, Media Bureau, (202) 418-2738.

SUPPLEMENTARY INFORMATION: This is a synopsis of the Commission's Report and Order, MB Docket No. 04-377, adopted April 12, 2006, and released April 14, 2006. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

Part 73 of Title 47 of the Code of Federal Regulations is amended as follows:

PART 73—RADIO BROADCAST SERVICES

1. The authority citation for part 73 reads as follows:

Authority: 47 U.S.C. 154, 303, 334, 336.

§ 73.202 [Amended]

2. Section 73.202(b), the Table of FM Allotments under Ohio, is amended by removing Dover, Channel 269A and by adding North Canton, Channel 269A.

Federal Communications Commission.
John A. Karousos,
Assistant Chief, Audio Division, Media Bureau.

[FR Doc. 06-4171 Filed 5-2-06; 8:45 am]

BILLING CODE 6712-01-P